DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. Chapter 35). To request a copy of the clearance requests submitted to OMB for review, call the HRSA Reports Clearance Office on (301)-443-1129.

The following request has been submitted to the Office of Management and Budget for review under the Paperwork Reduction Act of 1995:

Proposed Project: Social Support for Homeless Mothers: Implications for Best Practices and Program Design—New

The Health Care for the Homeless Clinicians' Network (HCHCN) of the National Health Care for the Homeless Council, Inc., through a cooperative agreement with the Bureau of Primary Health Care, Health Resources and Services Administration, proposes to conduct a study on the social support available to homeless mothers, most of whom are parenting children alone. The study will be of adult homeless women and will be conducted by convening focus groups and administering a questionnaire to focus group members. The study is designed to look at clients' life events, histories of violence, medical and physical illness, social support, children's needs, and services use. The results will help to define best practices as they relate to social support processes and enable HCH programs to offer the appropriate mix of supports necessary to help mothers transition into permanent housing. The participants will be recruited from ten sites of the national Health Care for the Homeless program.

The estimated response burden is as follows:

Type of respondent | Number of respondents | Responses per respondent | Hours per response | Total hour burden
Focus Group (including survey) | 100 | 1 | 1.5 | 150

Written comments and recommendations concerning the proposed information collection should be sent within 30 days of this notice to: John Morrall, Human Resources and Housing Branch, Office of Management and Budget, New Executive Office Building, Room 10235, Washington, DC 20503.

Dated: November 7, 2000.
Jane M. Harrison,
Director, Division of Policy Review and Coordination.

[FR Doc. 00-29107 Filed 11-14-00; 8:45 am]

BILLING CODE 4160-15-P